FEDERAL LABOR RELATIONS AUTHORITY

Senior Executive Service (SES) Performance Review Board

AGENCY: Federal Labor Relations Authority.

ACTION: Notice.

SUMMARY: The Federal Labor Relations Authority (FLRA) publishes the names of the persons selected to serve on its SES Performance Review Board (PRB). This notice supersedes all previous notices of the PRB membership.

DATES: Upon publication.

FOR FURTHER INFORMATION CONTACT: Sarah Whittle Spooner, Executive Director, Federal Labor Relations Authority; 1400 K Street NW., Washington, DC 20424-0001; (202) 218-7791.

SUPPLEMENTARY INFORMATION: Section 4314(c) of Title 5, U.S.C. requires each agency to establish, in accordance with regulations prescribed by the Office of Personnel Management, one or more PRBs. The PRB shall review and evaluate the initial appraisal of a senior executive's performance by the supervisor, along with any response by the senior executive, and make recommendations to the final rating authority relative to the performance of the senior executive.

The persons named below have been selected to serve on the FLRA's PRB.

Susan D. McCluskey, Chief Counsel; H. Joseph Schimansky, Executive Director, Federal Service Impasses Panel; James E. Petrucci, Director, Dallas Regional Office; Peter A. Sutton, Acting Deputy General Counsel; Sarah Whittle Spooner, Executive Director.

Dated: July 19, 2013.
Sarah Whittle Spooner,
Executive Director.

[FR Doc. 2013-17785 Filed 7-23-13; 8:45 am]

BILLING CODE 6727-01-P